DEPARTMENT OF LABOR

Employment and Training Administration

[TA-W-36,442]

Philips Lighting Company, Fairmont, WV; Notice of Negative Determination on Reconsideration

On November 23, 1999, the Department issued an Affirmative Determination Regarding Application for Reconsideration for the workers and former workers of the subject firm. The notice was published in the Federal Register on December 21, 1999 (64 FR 244, Pages 71502-71503).

The Department initially denied TAA to workers of the Fairmont facility because the “contributed importantly” group eligibility requirement of section 222(3) of the Trade Act of 1974, as amended, was not met. The Department's findings determined that separations of workers during the relevant period were the result of fluctuations in demand and a domestic transfer of production. The determination also stated that Philips Lighting Company does not import flourescent lighting products.

The petitioners requesting reconsideration asserted that the company is importing lighting products such as those produced at Fairmont in recent periods and that equipment transferred to a foreign location was being used to manufacture products formerly produced at Fairmont.

The Department's initial Negative Determination noted that workers of the Fairmont facility were covered by a previous TAA certification through April 15, 1999. Thus, the instant investigation focused on separations that have occurred since April 15, 1999.

On reconsideration, the Department conducted further investigation and obtained additional information from the subject firm. The Department has concluded that, although the company does in fact import flourescent lighting products, it does not import any products such as those produced at Fairmont within the past two years. The further investigation substantiated the previous finding that separations of workers from the Fairmont facility in the second half of 1999 were attributable to the transfer of production of certain flourescent lighting products to another domestic location of the subject firm. The further investigation also substantiated previous findings that equipment transferred from the Fairmont plant to a foreign location included such items as fork lifts and that no equipment transferred to the foreign location is being used to produce articles manufactured at Fairmont during the relevant period.

Conclusion

After reconsideration, I affirm the original notice of negative determination of eligibility to apply for worker adjustment assistance for workers and former workers of Philips Lighting Company, Fairmont, West Virginia.

Signed at Washington, D.C., this 31st day of March, 2000.
Grant D. Beale,
Program Manager, Division of Trade Adjustment Assistance.

[FR Doc. 00-8915 Filed 4-10-00; 8:45 am]

BILLING CODE 4510-30-M